DEPARTMENT OF AGRICULTURE

Commodity Credit Corporation

Farm Service Agency

Request for Extension of a Currently Approved Information Collection; Representations for CCC and FSA Loans and Authorization To File a Financing Statement

AGENCY: Commodity Credit Corporation and Farm Service Agency, USDA.

ACTION: Notice and request for comments.

SUMMARY: In accordance with the Paperwork Reduction Act of 1995, this notice announces the intent of the Commodity Credit Corporation (CCC) and the Farm Service Agency (FSA) to request extension of the information collection currently used in support of the CCC and FSA Farm Loan Programs (FLP).

DATES: Comments on this notice must be received on or before June 3, 2005, to be assured consideration.

FOR FURTHER INFORMATION CONTACT: Chris Kyer, USDA, Farm Service Agency, Price Support Division, 1400 Independence Avenue, SW., STOP 0512, Washington, DC 20250-0512; Telephone (202) 720-7935; electronic mail: chris.kyer@wdc.usda.gov.

SUPPLEMENTARY INFORMATION: Title: Representations for CCC or FSA Loans and Authorization to File a Financing Statement.

OMB Control Number: 0560-0215.

Expiration Date of Approval: September 30, 2005.

Type of Request: Extension of a Currently Approved Information Collection.

Abstract: Form CCC-10 is necessary to: (a) Gather or verify basic data provided by a CCC or FSA loan applicant that is required by a financing statement filed by CCC or FSA to perfect a security interest in collateral used to secure a loan; and (b) obtain loan applicant permission to file a financing statement prior to the execution of a security agreement.

Estimate of Burden: Public reporting burden for this collection of information is estimated to average 5 minutes per response.

Respondents: Individual farmers, farm or other business entities.

Estimated Number of Respondents: 105,500.

Estimated Number of Responses per Respondent: 1.

Estimated Total Annual Burden On Respondents: 61,507 hours.

Comments are invited on the following: (a) Whether the collection of information is necessary for the proper performance of the functions of the agency, including whether the information will have practical utility; (b) the accuracy of the agency's estimate of burden, including the validity of the methodology and assumptions used; (c) ways to enhance the quality, utility and clarity of the information to be collected; or (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Chris Kyer, Program Manager, USDA, Farm Service Agency, Price Support Division, 1400 Independence Avenue, SW., STOP 0512, Washington, DC 20250-0512.

All comments will become a matter of public record.

Signed in Washington, DC, on March 28, 2005.
James R. Little,
Executive Vice President, CCC and Administrator, Farm Service Agency.

[FR Doc. 05-6540 Filed 4-1-05; 8:45 am]

BILLING CODE 3410-05-P